DEPARTMENT OF TRANSPORTATION

Federal Motor Carrier Safety Administration

[Docket No. FMCSA-2016-0031]

Qualification of Drivers; Exemption Applications; Vision

AGENCY: Federal Motor Carrier Safety Administration (FMCSA), DOT.

ACTION: Notice of applications for exemptions; request for comments.

SUMMARY: FMCSA announces receipt of applications from 11 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 7, 2016. All comments will be investigated by FMCSA. The exemptions will be issued the day after the comment period closes.

ADDRESSES: You may submit comments bearing the Federal Docket Management System (FDMS) Docket No. FMCSA-2016-0031 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 11 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Daniel S. Billig

Mr. Billig, 29, has had amblyopia in his left eye since childhood. The visual acuity in his right eye is 20/20, and in his left eye, 20/200. Following an examination in 2015, his optometrist stated, “In my medical opinion, Daniel has sufficient vision to perform the driving tasks required to operate a commercial vehicle.” Mr. Billig reported that he has driven straight trucks for 3 years, accumulating 30,000 miles. He holds an operator's license from Minnesota. His driving record for the last 3 years shows no crashes and no convictions for moving violations in a CMV.

Duane N. Brojer

Mr. Brojer, 50, has had amblyopia in his left eye since birth. The visual acuity in his right eye is 20/20, and in his left eye, 20/100. Following an examination in 2016, his optometrist stated, “Dr. L. Victor Sandoval certifies that in his medical opinion, Duane has sufficient vision to perform the driving tasks required to operate a commercial vehicle.” Mr. Brojer reported that he has driven straight trucks for 21 years, accumulating 756,000 miles. He holds an operator's license from New Mexico. His driving record for the last 3 years shows no crashes and no convictions for moving violations in a CMV.

Jeffrey D. Davis

Mr. Davis, 56, has had amblyopia in his left eye since childhood. The visual acuity in his right eye is 20/20, and in his left eye, 20/400. Following an examination in 2016, his optometrist stated, “Mr. Davis has sufficient vision to perform driving tasks that are required to operate a commercial vehicle.” Mr. Davis reported that he has driven straight trucks for 2 years, accumulating 23,400 miles, and tractor-trailer combinations for 26 years, accumulating 624,000 miles. He holds a Class A CDL from North Carolina. His driving record for the last 3 years shows one crash in a CMV, to which he contributed but for which he was not cited, and no convictions for moving violations in a CMV.

Paul D. Evenhouse

Mr. Evenhouse, 59, has had exotropia in his left eye since birth. The visual acuity in his right eye is 20/25, and in his left eye, 20/200. Following an examination in 2016, his optometrist stated, “The patient reports that he has driven a large truck with CDL license for about 40 years. Since he has passed your CDL vision criteria in the past, and his vision and eye health are stable, I believe he can continue safely.” Mr. Evenhouse reported that he has driven straight trucks for 31 years, accumulating 1.13 million miles. He holds a Class B CDL from Illinois. His driving record for the last 3 years shows no crashes and no convictions for moving violations in a CMV.

Jonathan W. Gibbons

Mr. Gibbons, 40, has had refractive amblyopia in his right eye since birth. The visual acuity in his right eye is 20/50, and in his left eye, 20/20. Following an examination in 2016, his optometrist stated, “It is my opinion that Mr. Gibbons has more than sufficient vision to operate a commercial vehicle.” Mr. Gibbons reported that he has driven straight trucks for 4 years, accumulating 120,000 miles. He holds a Class AM CDL from Illinois. His driving record for the last 3 years shows no crashes and no convictions for moving violations in a CMV.

Shane J. Graff

Mr. Graff, 29, has had amblyopia in his right eye since childhood. The visual acuity in his right eye is 20/200, and in his left eye, 20/20. Following an examination in 2016, his optometrist stated, “Mr. Graff will need to wear a correction, but with this correction, will have 20/20 visual acuity and full peripheral field of vision. There should be no difficulty with him driving a commercial vehicle at this time.” Mr. Graff reported that he has driven tractor-trailer combinations for 13 years, accumulating 390,000 miles, and buses for 8 years, accumulating 40,000 miles. He holds an operator's license from Michigan. His driving record for the last 3 years shows no crashes and no convictions for moving violations in a CMV.

Brian D. Hoover

Mr. Hoover, 53, has had amblyopia in his left eye since birth. The visual acuity in his right eye is 20/15, and in his left eye, 20/100. Following an examination in 2016, his optometrist stated, “I, Denise C. Gimbel, OD, in my medical opinion, feel Brian Hoover has sufficient vision to perform the [sic] driving tasks required to operate a commercial vehicle.” Mr. Hoover reported that he has driven straight trucks for 34 years, accumulating 3,400 miles, and tractor-trailer combinations for 34 years, accumulating 68,000 miles. He holds a Class A CDL from Iowa. His driving record for the last 3 years shows one crash, which he was not cited for, and no convictions for moving violations in a CMV.

Michael A. Kafer

Mr. Kafer, 32, has had refractive amblyopia in his left eye since childhood. The visual acuity in his right eye is 20/20, and in his left eye, 20/100. Following an examination in 2016, his optometrist stated, “It is my medical opinion Michael Kafer has sufficient vision to perform the driving task as required to operate a commercial vehicle.” Mr. Kafer reported that he has driven tractor-trailer combinations for 10 years, accumulating 35,000 miles. He holds a Class A CDL from Kansas. His driving record for the last 3 years shows no crashes and no convictions for moving violations in a CMV.

Christopher Robinson

Mr. Robinson, 38, has had Coat's retinopathy in his left eye since childhood. The visual acuity in his right eye is 20/20, and in his left eye, 20/400. Following an examination in 2016, his ophthalmologist stated, “In my medical opinion, he has sufficient vision to perform the driving tasks for operating a commercial vehicle.” Mr. Robinson reported that he has driven straight trucks for 4 years, accumulating 124,800 miles, and tractor-trailer combinations for 4 years, accumulating 140,000 miles. He holds a Class A CDL from New York. His driving record for the last 3 years shows no crashes and no convictions for moving violations in a CMV.

Joshua R. Stanley

Mr. Stanley, 43, has a corneal scar in his right eye due to a traumatic incident in childhood. The visual acuity in his right eye is 20/250, and in his left eye, 20/20. Following an examination in 2016, his optometrist stated, “Mr. Stanley has sufficient vision to perform the driving tasks required to operate a commercial vehicle.” Mr. Stanley reported that he has driven straight trucks for 3 years, accumulating 28,300 miles. He holds an operator's license from Oklahoma. His driving record for the last 3 years shows no crashes and no convictions for moving violations in a CMV.

Charles F. Tibbetts

Mr. Tibbetts, 67, has had amblyopia in his left eye since childhood. The visual acuity in his right eye is 20/20, and in his left eye, 20/70. Following an examination in 2016, his optometrist stated, “The above is under my care and is visually impaired (mildly) in the left eye due to amblyopia which began at childhood and is stable. He should be allowed to drive a commercial vehicle.” Mr. Tibbetts reported that he has driven straight trucks for 10 years, accumulating 50,000 miles, and tractor-trailer combinations for 14 years, accumulating 364,000 miles. He holds an operator's license from South Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0031 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0031 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: July 27, 2016.
Larry W. Minor,
Associate Administrator for Policy.

[FR Doc. 2016-18735 Filed 8-5-16; 8:45 am]

BILLING CODE 4910-EX-P